DEPARTMENT OF TRANSPORTATION

Federal Railroad Administration

[Docket Number FRA-2013-0019]

Petition for Waiver of Compliance

Under part 211 of Title 49 of the Code of Federal Regulations (CFR), this document provides the public notice that on August 15, 2017, Old Augusta Railroad (OAR) petitioned the Federal Railroad Administration (FRA) for a waiver of compliance from certain provisions of the hours of service laws contained at Title 49 United States Code (U.S.C.) section 21103(a), in accordance with the authority of section 21102(b). FRA assigned the petition docket number FRA-2013-0019.

OAR requested an extension of its existing waiver of relief from the provisions of 49 U.S.C. 21103(a), which prohibits a train employee from remaining or going on duty for a period in excess of 12 consecutive hours. 49 U.S.C. 21102(b) allows railroads with 15 or fewer employees to be exempted from the restriction outlined at 49 U.S.C. 21103(a)(4)(B). The existing waiver allows OAR employees to initiate an on-duty period each day for seven (7) consecutive days followed by 72 hours off duty. An employee may initiate an on-duty period for an eighth consecutive day followed by 72 hours off duty, if all eight assignments do not infringe upon the 10:00 p.m. to 5:00 a.m. time period. Employees' schedules may be extended no more than one time within any 30-day period. An employee must agree to have his or her series of consecutive days extended. If an employee's series of consecutive days is extended and he or she subsequently feels fatigues, he or she may request up to 24 hours of time off duty, which OAR shall allow the employee to receive. For any employee whose series of consecutive days is extended subject to this waiver, the hours of service records for the relevant series of consecutive days must indicate that the limitation has been extended by waiver.

OAR states that its operation has not had a single incident attributable to fatigue during the effective period of the waiver. In addition, the relief has enabled the railroad to serve their customers safely and efficiently, utilizing their own experienced employees, and without having to rely on less experienced personnel obtained from other areas or entities. OAR states that its employees have unanimously consented to the waiver, and it has full support from both management and train service employees.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received December 11, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-23236 Filed 10-25-17; 8:45 am]

BILLING CODE 4910-06-P